DEPARTMENT OF TRANSPORTATION

Federal Aviation Administration

14 CFR Part 39

[Docket No. FAA-2013-0013; Directorate Identifier 2012-CE-046-AD; Amendment 39-17421; AD 2013-08-04]

RIN 2120-AA64

Airworthiness Directives; Grob-Werke Airplanes

AGENCY: Federal Aviation Administration (FAA), Department of Transportation (DOT).

ACTION: Final rule.

SUMMARY: We are adopting a new airworthiness directive (AD) for Grob-Werke Model G115EG airplanes. This AD results from mandatory continuing airworthiness information (MCAI) issued by an aviation authority of another country to identify and correct an unsafe condition on an aviation product. The MCAI describes the unsafe condition as cracks in the elevator trim tab arms on several Grob G 115 airplanes, which could result in failure of the part and consequent loss of control. We are issuing this AD to require actions to address the unsafe condition on these products.

DATES: This AD is effective May 23, 2013.

The Director of the Federal Register approved the incorporation by reference of a certain publication listed in the AD as of May 23, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Grob Aircraft AG, Lettenbachstrasse 9, D-86874 Tussenhausen-Mattsies, Germany; telephone: +49 (0) 8268 998 139; fax: +49 (0) 8268 998 200; email: productsupport@grob-aircraft.de; Internet: www.grob-aircraft.com/index.php/g-115e.html. You may review copies of the referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 to include an AD that would apply to the specified products. That NPRM was published in the Federal Register on January 15, 2013 (78 FR 2910). That NPRM proposed to correct an unsafe condition for the specified products. The MCAI states:

On several Grob G 115 aeroplanes, elevator trim tab arms Part Number (P/N) 115E-3758 have been found cracked, from a rear mounting hole (either L/H or R/H) to the rear edge of the trim tab arm.

This condition, if not detected and corrected, could lead to further crack propagation, possibly resulting in failure of the part and consequent loss of control of the aeroplane.

For the reasons described above, this AD requires repetitive inspections of the elevator trim tab arm to detect cracks and, if detected, replacement of the part with a serviceable part.

This AD also provides an optional terminating action for the repetitive inspections.

The Model G115EG airplane is the only airplane type-certificated in the United States with the same part numbers and similar configuration as the airplane model described in the MCAI.

Comments

We gave the public the opportunity to participate in developing this AD. We received no comments on the NPRM (78 FR 2910, January 15, 2013) or on the determination of the cost to the public.

Conclusion

We reviewed the relevant data and determined that air safety and the public interest require adopting the AD as proposed except for minor editorial changes. We have determined that these minor changes:

• Are consistent with the intent that was proposed in the NPRM (78 FR 2910, January 15, 2013) for correcting the unsafe condition; and

• Do not add any additional burden upon the public than was already proposed in the NPRM (78 FR 2910, January 15, 2013).

Costs of Compliance

We estimate that this AD will affect 0 products of U.S. registry. We also estimate that it would take about 3 work-hours per product to comply with the basic requirements of this AD. The average labor rate is $85 per work-hour. Required parts would cost about $372 per product.

Based on these figures, we estimate the cost of this AD on U.S. operators to be $627 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-08-04 Grob-Werke: Amendment 39-17421; Docket No. FAA-2013-0013; Directorate Identifier 2012-CE-046-AD.

(a) Effective Date

This airworthiness directive (AD) becomes effective May 23, 2013.

(b) Affected ADs

None.

(c) Applicability

This AD applies to GROB-WERKE G115EG airplanes, all serial numbers, certificated in any category.

(d) Subject

Air Transport Association of America (ATA) Code 55: Stabilizers.

(e) Reason

This AD was prompted by the discovery of cracks in the elevator trim tab arms on several Grob G 115 airplanes, which could result in failure of the part and consequent loss of control. The Model G115EG airplane is the only airplane type-certificated in the United States with the same part numbers and similar configuration as the airplane model described in the MCAI. We are issuing this proposed AD to detect cracks and prevent the part from failing.

(f) Actions and Compliance

Unless already done, do the following actions following Grob Aircraft Service Bulletin No. MSB1078-186/3, dated August 3, 2012.

(1) Within the next 50 hours time-in-service (TIS) after May 23, 2013 (the effective date of this AD) and repetitively thereafter at intervals not to exceed 200 hours TIS, inspect both left hand (L/H) and right hand (R/H) elevator trim tab arms, part number (P/N) 115E-3758, using a nondestructive testing (NDT) method such as a dye-penetrant or eddy-current that is beyond just a visual inspection.

(2) If during any inspection required in paragraph (f)(1) of this AD a crack is found, before further flight, replace the affected elevator trim tab arm with P/N 115E-3758/1. The replacement of an elevator trim tab arm with P/N 115E-3758/1 will terminate the repetitive inspection requirement for that trim tab arm. Replacement of both R/H and L/H trim tab arms with P/N 115E-3758/1 will terminate the repetitive requirement in paragraph (f)(1) of this AD.

(3) Replacement at any time of an elevator trim tab arm with P/N 115E-3758/1 will terminate the repetitive requirement in paragraph (f)(1) of this AD for that elevator trim tab arm. Replacement of both R/H and L/H trim tab arms with P/N 115E-3758/1 will terminate the repetitive requirement in paragraph (f)(1) of this AD.

(g) Credit for Actions Accomplished in Accordance With Previous Service Information

This AD provides credit for the actions required in this AD if already done before the effective date of this AD following Grob Aircraft Service Bulletin No. MSB1078-186/2, dated March 28, 2012; Grob Aircraft Service Bulletin No. MSB1078-186/1, dated March 8, 2012; or Grob Aircraft Service Bulletin No. MSB1078-186, dated February 15, 2012.

(h) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI European Aviation Safety Agency (EASA) AD No.: 2012-0155, dated August 20, 2012; Grob Aircraft Service Bulletin No. MSB1078-186/2, dated March 28, 2012; Grob Aircraft Service Bulletin No. MSB1078-186/1, dated March 8, 2012; or Grob Aircraft Service Bulletin No. MSB1078-186, dated February 15, 2012; for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Grob Aircraft Service Bulletin No. MSB1078-186/3, dated August 3, 2012.

(ii) Reserved.

(3) For Grob Aircraft AG service information identified in this AD, contact Grob Aircraft AG, Lettenbachstrasse 9, D-86874 Tussenhausen-Mattsies, Germany; phone: +49 (0) 8268 998 139; fax: +49 (0) 8268 998 200; email: productsupport@grob-aircraft.de; Internet: www.grob-aircraft.com/index.php/g-115e.html.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on April 8, 2013.
Earl Lawrence,
Manager, Small Airplane Directorate, Aircraft Certification Service.

[FR Doc. 2013-08771 Filed 4-17-13; 8:45 am]

BILLING CODE 4910-13-P